DEPARTMENT OF DEFENSE

Office of the Secretary

Announcement of Intent To Initiate the Process To Remove Aeronautical Information From Public Sale and Distribution

AGENCY: National Geospatial-Intelligence Agency (NGA), Department of Defense.

ACTION: Notice.

SUMMARY: The National Geospatial-Intelligence Agency (NGA) intends to remove its Flight Information Publications (FLIP), Digital Aeronautical Flight Information File (DAFIF), and related aeronautical safety of navigation digital and hardcopy publications from public sale and distribution.

This action is taken to accomplish the following objectives: safeguarding the integrity of Department of Defense (DoD) aeronautical navigation data currently available on the public Internet; preventing unfettered access to air facility data by those intending harm to the United States, its interests or allies; upholding terms of bi-lateral geospatial data-sharing agreements; avoiding competition with commercial interests; and avoiding intellectual property/copyright disputes with foreign agencies that provide host-nation aeronautical data.

The DAFIF and related digital aeronautical information files will be protected from general public access on the NGA home page (http://www.nga.mil). Aeronautical Flight Information Publications (FLIP), Navigation/Planning Charts (ONC, TPC, etc.), and the DAFIF CD will be available only through the Department of Defense (DoD) distribution system. U.S. Federal and State government agencies, authorized government contractors, and international agencies that currently receive those products under formal or informal geospatial data exchange arrangements will not be affected by this action.

DATES: NGA will implement this action on October 1, 2005 (FY06).

FOR FURTHER INFORMATION CONTACT: For further information about the substance of this notice, contact Joseph S. Jarvis, Aeronautical Division, MS L-27, National Geospatial-Intelligence Agency, 3838 Vogel Road, Arnold, Missouri, 63010-6238 (e-mail: JarvisJ@nga.mil).

SUPPLEMENTARY INFORMATION: NGA and its predecessor organizations (DMA and NIMA) have published DoD's flight information products since the late 1940s to support the worldwide missions of DoD aircraft. The publications are sold to the public through the auspices of the Federal Aviation Administration (FAA), and the digital data has been freely available on the Internet. Notwithstanding a prior practice of making some of DoD's flight information available to the public in the past, NGA does not have a statutory requirement to produce aeronautical products for general civil aviation.

With the proliferation of digital capabilities throughout the international aviation network, the preferred method of information exchange is shifting from paper-based to electronic dissemination. Numerous countries that heretofore relied on host-government agencies to compile and publish their aeronautical information have recently transferred that responsibility to commercial or quasi-governmental agencies. Some of these foreign agencies are beginning to assert intellectual property rights to the aeronautical data within their territorial limits and are refusing to provide such aeronautical data to DoD so long as NGA makes it available to outside interests, whom these agencies view as possible competitors in the international marketplace. NGA relies on foreign data obtained through bilateral geospatial information sharing agreements, and certain nations may impose restrictions on their data against release to third parties. Accordingly, there is a rational basis for limiting access to aeronautical products created for DoD use to DoD and governmental end users.

By removing national defense aeronautical data from open source access NGA seeks to accomplish two additional objectives. First, NGA will reduce the vulnerability of critical navigation data on the Internet. Second, it will limit/eliminate unfettered access to that data by organizations and individuals intent on causing harm.

In conclusion, with the accomplishment of this proposed action NGA aims to protect the sources and integrity of its data, honor its bilateral agreements restricting non-governmental use, avoid competition with commercial interests, and allow NGA to focus on its primary customers and mission, supporting the Department of Defense.

Dated: November 12, 2004.
Jeannette Owings-Ballard,
OSD Federal Register Liaison Officer, Department of Defense.

[FR Doc. 04-25631 Filed 11-17-04; 8:45 am]

BILLING CODE 5001-06-P